DEPARTMENT OF ENERGY

Federal Energy Regulatory Commission

[Docket No. RP03-70-000]

PG&E Gas Transmission, Northwest Corporation; Notice of Technical Conference

December 26, 2002.

In the Commission's order issued on December 6, 2002,¹ the Commission directed that a technical conference be held to address issues raised by the filing.

¹ PG&E Gas Transmission, Northwest Corporation, 101 FERC 61,280 (2002).

Take notice that the technical conference will be held on Friday, January 10, 2003, at 10:30 a.m., in a room to be designated at the offices of the Federal Energy Regulatory Commission, 888 First Street, NE., Washington, DC 20426.

All interested parties and Staff are permitted to attend.

Linwood A. Watson, Jr.,
Deputy Secretary.

[FR Doc. 02-33071 Filed 12-31-02; 8:45 am]

BILLING CODE 6717-01-P